DEPARTMENT OF COMMERCE

International Trade Administration

[A-570-867]

Notice of Extension of Time Limit for the Final Results of the Antidumping Duty Administrative Review: Automotive Replacement Glass Windshields From the People's Republic of China

AGENCY: Import Administration, International Trade Administration, Department of Commerce.

EFFECTIVE DATE: August 9, 2004.

SUMMARY: The Department of Commerce (“the Department”) is extending the time limit for the final results of the antidumping duty review of automotive replacement glass windshields from the People's Republic of China. This review covers the period September 19, 2001 through March 31, 2003.

FOR FURTHER INFORMATION CONTACT: Robert Bolling or Jon Freed, AD/CVD Enforcement, Import Administration, International Trade Administration, U.S. Department of Commerce, 14th Street and Constitution Avenue, NW., Washington, DC 20230; telephone: (202) 482-3434 and (202) 482-3818, respectively.

Background

On May 7, 2004, the Department published the preliminary results of the administrative review of the antidumping duty order on ARG windshields from the PRC. See Automotive Replacement Glass Windshields from the People's Republic of China: Preliminary Results of Antidumping Duty Administrative Review, 69 FR 25545 (May 7, 2004). The final results of this administrative review are currently due no later than September 4, 2004.

Extension of Time Limit for Final Results

Section 751(a)(3)(A) of the Act states that if it is not practicable to complete the review within the time specified, the administering authority may extend the 120-day period, following the date of publication of the preliminary results, to issue its final results by an additional 60 days. Completion of the final results within the 120-day period is not practicable for the following reasons: This review involves certain complex issues which were raised in the briefs after the preliminary results of review including: (1) Exclusion of export price sales from margin calculation; and (2) use of market prices for float glass instead of surrogate values.

Therefore, in accordance with section 751(a)(3)(A) of the Act, the Department is extending the time period for issuing the final results of review by 30 days until no later than October 4, 2004.

Dated: August 3, 2004.
Jeffrey A. May,
Deputy Assistant Secretary for Import Administration, Group I.

[FR Doc. 04-18156 Filed 8-6-04; 8:45 am]

BILLING CODE 3510-DS-P